DEPARTMENT OF HEALTH AND HUMAN SERVICES

Centers for Disease Control and Prevention

[30 Day-08-07AW]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Experimental and Theoretical Study of Early Detection and Isolation of Influenza—New—The National Institute for Occupational Safety and Health (NIOSH), Centers for Disease Control and Prevention (CDC).

Background and Brief Description

The Federal Occupational Safety and Health Act of 1970, section 501, enables NIOSH to carry out research relevant to the health and safety of workers. Some diseases like influenza and Severe Acute Respiratory Syndrome (SARS) can be spread when people produce clouds of droplets (called aerosols) by coughing or sneezing. Aerosol transmission of infectious diseases is of particular interest today because of increased concern over a possible global influenza pandemic. The possible airborne spread of influenza is especially important to health-care workers and emergency responders, who face a much greater risk of exposure than does the general public. However, substantial gaps exist in our understanding of the generation and spread of infectious aerosols containing influenza. This lack of information hampers the ability of health scientists to model and predict the transmission of influenza by airborne particles and to understand whether or not aerosols are likely to be an important route of transmission of influenza during a pandemic.

The purpose of this study is to gain a better understanding of the production and dissemination of aerosols containing the influenza virus. The results of this research will give scientists and health professionals greater insight into the airborne transmission of influenza and allow them to better assess the potential effectiveness of preventive measures.

The first part of this study will measure the quantity and size distribution of aerosol droplets produced by people with influenza when they cough. To accomplish this, volunteers with influenza-like illness will be asked to provide an oral swab for influenza testing, and then will cough into a spirometer. The aerosol produced by each person will be measured using commercially-available instrumentation. The oral swabs will be processed after the aerosol experiments are completed.

The second part of this study will determine the amount and size of airborne particles containing influenza virus that are present in a hospital emergency department during influenza season. Health care workers will be recruited to wear small aerosol collection devices as they go about their normal duties. The collected samples will then be analyzed for influenza virus. Adult patients in the emergency department with influenza-like illness will be asked to provide an oral swab to test for the flu virus in order to estimate the number of potential sources of viral-laden airborne particles. There will be no costs to study participants. The total estimated annualized burden hours are 35.

Total Estimated Annualized Burden Table
Type of respondent | Form | Number of respondents | Number of responses per respondent | Average burden per response (in hours)
Specific Aim 1: Volunteers with influenza
Initial participants | Health questionnaire | 42 | 1 | 5/60
Qualified participants | Consent form | 40 | 1 | 20/60
Specific Aim 2: Health care workers
Initial participants | Health questionnaire | 32 | 1 | 5/60
Qualified participants | Consent form | 30 | 1 | 20/60
Specific Aim 2: Emergency Department patients
Participants | Consent form | 15 | 1 | 20/60

Dated: December 14, 2007.
Maryam I. Daneshvar,
Acting Reports Clearance Officer, Centers for Disease Control and Prevention.

[FR Doc. E7-24929 Filed 12-21-07; 8:45 am]

BILLING CODE 4163-18-P